DEPARTMENT OF THE INTERIOR

Bureau of Land Management

[LLWY920000/L51010000.ER0000.16X/LVRWK09K1160/241A; WYW-177893, WYW-177893-01; COC-72929, COC-72929-01; UTU-87238, UTU-87238-01; NVN-86732, NVN-86732-01]

Notice of Availability of the Record of Decision for the TransWest Express Transmission Project in Wyoming, Colorado, Utah and Nevada

AGENCY: Bureau of Land Management, Department of the Interior.

ACTION: Notice.

SUMMARY: The Department of the Interior, Bureau of Land Management (BLM) announces the availability of the Record of Decision (ROD) approving the TransWest Express 600-kilovolt (kV) Direct Current Transmission Project (Project) right-of-way in Wyoming, Colorado, Utah, and Nevada and associated amendments to the Rawlins Field Office (FO) Resource Management Plan (RMP) in Wyoming, the Little Snake FO RMP in Colorado, the Vernal FO and Pony Express RMPs in Utah, and the Ely District RMP in Nevada.

ADDRESSES: Copies of the ROD are being sent to Federal, State and local governments, public libraries in the Project area, and interested parties who previously requested a copy. Copies of the ROD and support documents are also available for public inspection at the locations identified in the SUPPLEMENTARY INFORMATION section of this notice and electronically on the following Web site: http://bit.ly/TransWestExpress.

FOR FURTHER INFORMATION CONTACT: Sharon Knowlton, Project Manager, BLM Wyoming State Office, P.O. Box 20879, Cheyenne, WY 82003, by telephone at 307-775-6124, or by email at sknowlto@blm.gov. Any persons wishing to be added to a mailing list of interested parties may write or call the Project Manager at this address or phone number. Persons who use a telecommunications device for the deaf (TDD) may call the Federal Relay Service at 1-800-877-8339. The Service is available 24 hours a day, 7 days a week, to leave a message or question with the above individual. You will receive a reply during normal business hours.

SUPPLEMENTARY INFORMATION: In November 2007, National Grid filed a ROW application with the BLM to construct and operate an extra high voltage transmission line between Wyoming and delivery points in the Southwestern United States. An amended application was filed on September 2, 2008, and the Project application was transferred to TransWest Express LLC (TransWest), a subsidiary of the Anschutz Corporation. TransWest submitted additional amended applications to the BLM in 2008, 2010, 2011, 2012, 2014, and 2015 to reflect minor changes and refinements to the proposed Project.

In April 2010, the BLM and Western Area Power Administration (Western) entered into a Memorandum of Understanding (MOU) in which the BLM and Western agreed to act as joint lead agencies in the preparation of an Environmental Impact Statement (EIS) for the Project. The BLM's status as a joint lead agency is based on the BLM's potential Federal action to grant a ROW across BLM lands. Western's status as a joint lead agency is based on its potential Federal action to provide Federal funds for the proposed Project. Western and TransWest entered into a development agreement (executed in September 2011, amended in June 2014) wherein Western agreed to support Project development by providing technical assistance and/or financing.

The U.S. Forest Service (USFS), U.S. Bureau of Reclamation, and Utah Reclamation Mitigation Conservation Commission are cooperating agencies in the proposed Project, based on their potential issuance of permits authorizing the use of lands under their management. Additional cooperating agencies include Federal, State, tribal, and local agencies. On January 4, 2011, the BLM and Western jointly published in the Federal Register (76 FR 379) a Notice of Intent to Prepare an EIS in compliance with the requirements of the Federal Land Policy and Management Act (FLPMA) and the National Environmental Policy Act (NEPA). To allow the public an opportunity to review information associated with the proposed Project, the BLM held public scoping meetings from January through March 2011 in Baggs, Rawlins, and Rock Springs, Wyoming; Craig, Grand Junction, and Rangely, Colorado; Castledale, Cedar City, Central, Delta, Duchesne, Enterprise, Milford, Moab, Nephi, Pine Valley, Richfield, and St. George, Utah; and Caliente, Henderson, Las Vegas, and Overton, Nevada. Issues and potential impacts to specific resources were identified during the scoping period and the preparation of the Draft EIS.

The BLM and Western, in coordination with the USFS and other federal, state, and local governments and agencies, considered all public scoping comments received, as well as TransWest's refinements to the Proposed Action, when they identified the Agency Preferred Alternative in the Draft EIS. The Agency Preferred Alternative was developed through a comparative evaluation of routing opportunities and constraints and the relative impacts among the various alternative segments.

The Environmental Protection Agency published a Notice of Availability (NOA) for the Draft EIS/Draft RMP Amendments on June 28, 2013 in the Federal Register (78 FR 38975), which began a 90-day public comment period. The BLM and Western published their NOA for the Draft EIS/Draft RMP Amendments on July 3, 2013 in the Federal Register (78 FR 40163). To help facilitate the public review of and comment on the Draft EIS, the agencies held public meetings in July, August, and September 2013 in Baggs and Rawlins, Wyoming; Craig, Colorado; Cedar City, Delta, Duchesne, Fort Duchesne, Nephi, Price, St. George, and Vernal, Utah; and Henderson and Panaca, Nevada.

On December 6, 2013, the USFS published an additional NOA in the Federal Register (78 FR 73524) to initiate an additional 30-day public comment period specific to the USFS decision whether to authorize the Project across USFS-managed lands. Similarly, the USFS will publish their own NOA to notify the public of their decision whether to authorize the Project.

The agencies received over 1,800 comments, contained in 457 submissions, during the Draft EIS public comment periods. All submitted comments were addressed in the Final EIS.

As a result of cooperating agency input and public comments, refinements were made to the Agency Preferred Alternative presented in the Final EIS. These refinements include:

• Reduction in the separation distance from existing transmission to reflect updated Western Electricity Coordinating Council guidance;

• Removal of or adjustment to portions of the proposed Project to address resource impacts or conflicts; and

• Reduction in the width of the study area and refinements to the transmission alignment to reflect preliminary engineering designed to reduce resource impacts and conflicts.

In addition to these refinements, the agencies also developed a suite of hierarchical mitigation requirements for application on an on-site, regional and compensatory basis, including landscape-level conservation and management actions to reduce resource impacts and achieve planning objectives across the area impacted by the Project. Project linear mileage lengths of the Agency Preferred Alternative by agency jurisdiction are found in the Final EIS, Chapter 2.0, Tables 2-23 through 2-26 and also below. The Final EIS and proposed RMP Amendments were made available for a 30-day protest period and a 60-day Governors' Consistency Review on May 1, 2015. Six protest letters were received and considered. The Director determined that the BLM followed applicable laws, regulations and policies; therefore, all protests were denied or dismissed. The Governors of Wyoming and Utah provided Consistency Review letters, which the BLM reviewed and considered in developing the route alignment approved in the ROD (referred to as the Selected Alternative).

The Selected Alternative approved by the BLM's ROD is a 728 mile, 600-kilovolt direct current transmission system centered within a 250 foot wide corridor, and includes access roads and ancillary permanent facilities. Approximately 275 miles (38 percent) of the Selected Alternative are located within designated federal utility corridors. It is also co-located with existing transmission lines for a distance of 398 miles (55 percent of the total length).

In Wyoming, the Selected Alternative crosses 58 miles of federal, 4 miles of state, and 29 miles of private land. In Colorado, the Selected Alternative crosses 63 miles of Federal, 13 miles of State, and 15 miles of private land. In Utah, the Selected Alternative crosses 210 miles of Federal, 27 miles of State, and 153 miles of private land. In Nevada, the Selected Alternative crosses 137 miles of Federal, 14 miles of tribal, and 5 miles of private land. The Selected Alternative largely follows the Agency Preferred Alternative, in the Final EIS, except for two minor modifications.

The Final EIS' analysis of the Project was organized into four geographic regions based on region-specific topographical or other resource constraints and issues (Southern Wyoming, Northwestern Colorado; Northwestern Colorado, Eastern Utah, and Central Utah; Central Utah, Southwestern Utah, and Southern Nevada; Southern Nevada-Apex to the Marketplace Hub). The approximately 728-mile Selected Alternative is discussed below, by region.

BLM Decision—ROW Grant: The ROD approves, subject to mitigation measures identified in the ROD, a ROW grant as outlined below by EIS Region:

• Region I: (Southern Wyoming, Northwestern Colorado). Final EIS Alternative I-B with the Tuttle Micro-siting Option 4 and the Bolten Ranch ground electrode system siting. The Selected Alternative transmission line route would extend approximately 157 miles from the vicinity of Sinclair, Carbon County, Wyoming to the vicinity of U.S. Highway 40 southwest of Maybell in western Moffat County, Colorado.

• Region II: (Northwestern Colorado, Eastern Utah, and Central Utah). Final EIS Alternative II-G. The Selected Alternative transmission line route would extend approximately 252 miles from Maybell Colorado, through eastern Utah, to the vicinity of the Intermountain Power Project (IPP) near Delta, Millard County, Utah.

• Region III: (Central Utah, Southwest Utah, and Southern Nevada). Final EIS Alternative III-D with the Halfway Wash-Virgin River ground electrode system siting. The Selected Alternative transmission line route would extend approximately 282 miles from the vicinity of the IPP, Millard County, Utah, to the vicinity of Apex on Interstate 15, northeast of Las Vegas, Nevada.

• Region IV: (Southern Nevada—Apex to the Marketplace Hub). Final EIS Alternative IV-A. The Selected Alternative transmission line route would extend approximately 37 miles from Apex on Interstate 15 to the Marketplace Hub in the Eldorado Valley, southeast of Las Vegas.

In addition to approving the configuration identified above, the ROD also affirmatively recognizes two design options that provide minor variations to the approved route. The Applicant has the option of construction either one of these design options with prior notification and approval by the BLM.

BLM Decision—Land Use Plan Amendments: The BLM planning regulations (43 CFR 1610) require authorized uses of public lands to conform to approved land use plans. To bring the Project into conformance, the ROD approves the following amendments to BLM RMPs in the Project area:

• Rawlins Field Office RMP (Wyoming): Amendment designates new utility corridor and expands an existing corridor to allow for overhead utilities and exceptions to other resource stipulations if avoidance measures or mitigation are not feasible.

• Little Snake Field Office RMP (Colorado): Amendment designates a new utility corridor to allow for overhead utilities and exceptions to other resource stipulations if avoidance measures or mitigation are not feasible.

• Vernal Field Office RMP (Utah): Amendment designates a new aboveground utility corridor. This corridor will allow for exceptions to other resource stipulations if avoidance measures or impact mitigation are not feasible.

• Pony Express RMP (Salt Lake Field Office, Utah): Amendment designates a new aboveground utility corridor to accommodate future high voltage transmission lines.

• Ely RMP (Caliente Field Office, Nevada): Amendment provides a one-time exception to accommodate one high-voltage transmission line through the ROW exclusion area adjacent to the existing utility corridor through the Mormon Mesa-Ely ACEC.

All plan amendments comply with applicable Federal laws and regulations and apply only to Federal lands and mineral estates administered by the BLM.

Approval of the ROW grant is subject to the terms and conditions laid out in the ROD and ROD appendices, and construction cannot begin until TransWest completes satisfies all terms and conditions identified in the ROD necessary to receive a written Notice to Proceed from the BLM (43 CFR 2805).

Copies of the ROD are available for public inspection during normal business hours at the following locations.

• BLM, Wyoming State Office, Public Reading Room, 5353 Yellowstone Road, Cheyenne, Wyoming 82009;

• BLM, Colorado State Office, Public Reading Room, 2850 Youngfield Street, Lakewood, Colorado 80215-7093;

• BLM, Utah State Office, Public Reading Room, 440 West 200 South, Suite 500, Salt Lake City, Utah 84101-1345; and

• BLM, Nevada State Office, Public Reading Room, 1340 Financial Blvd., Reno, Nevada 89502.

The Assistant Secretary of Land and Minerals Management, Department of the Interior, has approved the ROD. That approval constitutes the final decision of the Department and, in accordance with the regulations at 43 CFR 4.410, is not subject to appeal under Departmental regulations at 43 CFR part 4.

Any challenge to these decisions must be brought in the Federal District Court and is subject to 42 U.S.C. 4370m-6.

Mary Jo Rugwell,
Wyoming State Director.

[FR Doc. 2016-30345 Filed 12-15-16; 8:45 am]

BILLING CODE 4310-22-P